DEPARTMENT OF THE INTERIOR

Fish and Wildlife Service

[FWS-R4-R-2014-N021; FXRS12610400000S3-145-FF04R02000]

National Wildlife Refuge System; Draft Programmatic Environmental Assessment for the Use of Genetically Modified Crops in National Wildlife Refuge Farming Programs in Region 4 (Southeast Region) of the United States Fish and Wildlife Service; Discontinuation of Preparation of NEPA Document

AGENCY: Fish and Wildlife Service, Interior.

ACTION: Notice of discontinuation of preparation of NEPA Document.

SUMMARY: Pursuant to the National Environmental Policy Act (NEPA) and in accordance with the negotiated settlement of a lawsuit, we, the U.S. Fish and Wildlife Service (Service), published a notice in the Federal Register on April 30, 2013, announcing and inviting comments on our intention to develop a draft programmatic environmental assessment (PEA) of the effects of the cultivation and use of genetically modified crops (GMCs) on certain refuges in the Southeast Region to meet wildlife management objectives. As part of the settlement agreement, we also agreed to discontinue cultivating and using the GMCs in the Southeast Region after the 2012 crop year and to refrain from such activities until 90 days after completion of an appropriate NEPA analysis of such activities. On July 17, 2014, the Chief of the Service's National Wildlife Refuge System issued a memorandum announcing that the use of GMCs to meet wildlife management objectives within the National Wildlife Refuge System (System) would be phased out and discontinued by January 2016. Accordingly, we have concluded that our NEPA process is no longer necessary and, therefore, are notifying the public that we are discontinuing preparation of the PEA.

FOR FURTHER INFORMATION CONTACT: Tom MacKenzie, by email at tom_mackenzie@fws.gov.

SUPPLEMENTARY INFORMATION:

Introduction

On April 30, 2013, we published a notice in the Federal Register (78 FR 25297) announcing and inviting comments on our intention to prepare a PEA on the effects of the cultivation and use of GMCs on certain refuges in the Southeast Region. The Southeast Region is comprised of Alabama, Arkansas, Florida, Tennessee, Georgia, Kentucky, Louisiana, Mississippi, North Carolina, South Carolina, and the Caribbean. GMCs were primarily used on certain refuges in Alabama, Arkansas, Tennessee, Kentucky, Louisiana, Mississippi, and North Carolina, to meet Service goals and objectives to provide migratory birds, especially waterfowl, with dependable high-energy food during the winter months.

In 2011, three national nonprofit organizations, the Center for Food Safety, Beyond Pesticides, and Public Employees for Environmental Responsibility, sued the Secretary of the Department of the Interior, the Director of the Service, and the Service in Center for Food Safety, et al. v. Salazar, et al., Civil Action No. 11-1457 (DC 2011), on the Service's decision to allow GMCs to be cultivated on some 44,000 acres of refuge land in the Southeast Region. On November 5, 2012, the Court entered an Order adopting the negotiated settlement agreement of the Parties, which included a prohibition on the use of GMCs in the Southeast Region unless and until ninety (90) days after completion of appropriate NEPA analysis on such use.

Background

In our April 30, 2013, Federal Register notice, we invited public input on our intent to prepare a PEA and requested submissions in the form of information and suggestions on the issues that should be considered during the NEPA planning process and in the PEA. We held five scoping meetings in Columbia, North Carolina; Decatur, Alabama; Dyersburg, Tennessee; Natchez, Mississippi; and Alexandria, Louisiana. We also created a Web site on which the public could submit comments and suggestions.

After the scoping meetings and receipt of comments via the Web site, we began drafting the PEA, and were engaged in doing so when the Chief of the Service's National Wildlife Refuge System issued the July 17, 2014, memorandum announcing the phasing out of the use of GMCs to achieve wildlife management objectives throughout the National Wildlife Refuge System by January 2016. Upon issuance of the memorandum, we determined that the need to prepare the PEA no longer existed and abandoned such preparation.

Authority

This notice is published under the authority of the National Wildlife Refuge System Improvement Act of 1997 (16 U.S.C. 668dd et seq.).

Dated: March 27, 2015.
Michael Oetker,
Acting Regional Director.

[FR Doc. 2015-13842 Filed 6-5-15; 8:45 am]

BILLING CODE 4310-55-P